DEPARTMENT OF ENERGY

Federal Energy Regulatory Commission

Combined Notice of Filings #1

Take notice that the Commission received the following electric rate filings:

Docket Numbers: ER21-2474-001.

Applicants: Pleinmont Solar 2, LLC.

Description: Compliance filing: Revised Rate Schedule FERC No. 1 to be effective 7/23/2021.

Filed Date: 9/22/21.

Accession Number: 20210922-5020.

Comment Date: 5 p.m. ET 10/13/21.

Docket Numbers: ER21-2568-001.

Applicants: Public Service Company of New Hampshire.

Description: Tariff Amendment: Suplmnt Great Lakes Hydro American LLC Large Generator Interconnection Agreement to be effective 7/31/2021.

Filed Date: 9/22/21.

Accession Number: 20210922-5054.

Comment Date: 5 p.m. ET 10/13/21.

Docket Numbers: ER21-2597-000.

Applicants: Rockhaven Wind Project, LLC.

Description: Supplement to August 3, 2021 Rockhaven Wind Project, LLC tariff filing.

Filed Date: 9/21/21.

Accession Number: 20210921-5132.

Comment Date: 5 p.m. ET 10/1/21.

Docket Numbers: ER21-2918-000.

Applicants: PacifiCorp.

Description: § 205(d) Rate Filing: OATT Revised Attach U (rev effective date 3.1.22) to be effective 3/1/2022.

Filed Date: 9/21/21.

Accession Number: 20210921-5123.

Comment Date: 5 p.m. ET 10/12/21.

Docket Numbers: ER21-2919-000.

Applicants: Camp Grove Wind Farm LLC.

Description: Camp Grove Wind Farm LLC submits tariff filing per 35.12: Reactive Power Compensation Filing to be effective 9/23/2021.

Filed Date: 9/22/21.

Accession Number: 20210922-5031.

Comment Date: 5 p.m. ET 10/13/21.

Docket Numbers: ER21-2920-000.

Applicants: Southwestern Electric Power Company.

Description: § 205(d) Rate Filing: SWEPCO-GSEC-LHEC TB Beard to Friendship Delivery Point Agreement to be effective 9/2/2021.

Filed Date: 9/22/21.

Accession Number: 20210922-5036.

Comment Date: 5 p.m. ET 10/13/21.

Docket Numbers: ER21-2921-000.

Applicants: California Independent System Operator Corporation.

Description: § 205(d) Rate Filing: 2021-09-22 Transferred Frequency Response—City of Seattle to be effective 12/1/2021.

Filed Date: 9/22/21.

Accession Number: 20210922-5064.

Comment Date: 5 p.m. ET 10/13/21.

Docket Numbers: ER21-2922-000.

Applicants: Midcontinent Independent System Operator, Inc.

Description: § 205(d) Rate Filing: 2021-09-22_SA 2294 ATC-DTE Garden Wind 6th Rev GIA (J060 J061 J557 J928 J1183) to be effective 9/8/2021.

Filed Date: 9/22/21.

Accession Number: 20210922-5070.

Comment Date: 5 p.m. ET 10/13/21.

Docket Numbers: ER21-2923-000.

Applicants: PacifiCorp.

Description: § 205(d) Rate Filing: UAMPS Agmt Re SS of Ancillary Serv Sched 5 and/or 6 Errata filing to be effective 9/17/2021.

Filed Date: 9/22/21.

Accession Number: 20210922-5085.

Comment Date: 5 p.m. ET 10/13/21.

Docket Numbers: ER21-2924-000.

Applicants: Southwest Power Pool, Inc.

Description: § 205(d) Rate Filing: Revisions to Attachment U—Compensation for Rescheduled Maintenance Costs to be effective 11/22/2021.

Filed Date: 9/22/21.

Accession Number: 20210922-5094.

Comment Date: 5 p.m. ET 10/13/21.

Take notice that the Commission received the following electric securities filings:

Docket Numbers: ES21-82-000.

Applicants: Basin Electric Power Cooperative.

Description: Application Under Section 204 of the Federal Power Act for Authorization to Issue Securities of Basin Electric Power Cooperative.

Filed Date: 9/21/21.

Accession Number: 20210921-5133.

Comment Date: 5 p.m. ET 10/12/21.

Take notice that the Commission received the following public utility holding company filings:

Docket Numbers: PH21-17-000.

Applicants: Starwood Energy Group Global, L.L.C.

Description: Starwood Energy Group Global, L.L.C., submits FERC 65-B Notice of Change in Fact to Waiver Notification.

Filed Date: 9/22/21.

Accession Number: 20210922-5087.

Comment Date: 5 p.m. ET 10/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2021.
Debbie-Anne A. Reese,
Deputy Secretary.

[FR Doc. 2021-21023 Filed 9-27-21; 8:45 am]

BILLING CODE 6717-01-P